DEPARTMENT OF COMMERCE

International Trade Administration

[A-821-808]

Certain Cut-to-Length Carbon Steel Plate From the Russian Federation: Termination of the Suspension Agreement and Issuance of Antidumping Duty Order

AGENCY: Enforcement and Compliance, International Trade Administration, Department of Commerce.

SUMMARY: The U.S. Department of Commerce (Commerce) is terminating the Agreement Suspending the Antidumping Duty Investigation on Certain Cut-to-Length Carbon Steel Plate (CTL plate) from the Russian Federation (Russia) (2003 Agreement). Accordingly, Commerce is issuing an antidumping duty (AD) order on CTL plate from Russia. Commerce is directing the suspension of liquidation and collection of cash deposits to begin on the date of publication of this notice.

DATES: Applicable August 14, 2023.

FOR FURTHER INFORMATION CONTACT: Sally C. Gannon or David Cordell, Enforcement and Compliance, International Trade Administration, U.S. Department of Commerce, 1401 Constitution Avenue NW, Washington, DC 20230; telephone: (202) 482-0162 or (202) 482-0408, respectively.

SUPPLEMENTARY INFORMATION:

Background

On December 3, 1996, Commerce initiated an AD investigation under section 732 of the Tariff Act of 1930, as amended (the Act) on CTL plate from Russia.¹ Commerce suspended the AD investigation on October 24, 1997, on the basis of an agreement between Commerce and the Government of Russia (GOR) under section 734(l) of the Act to restrict the volume of direct and indirect exports to the United States of CTL plate from all Russian producers/exporters and to revise its prices to eliminate completely sales of this merchandise to the United States at less than fair value.² In the Final Determination, Commerce calculated weighted-average dumping margins of 53.81 percent for Joint Stock Company Severstal (Severstal) and 185.00 percent for the “Russia-wide” entity.³ In December 1997, the U.S. International Trade Commission (ITC) determined that an industry in the United States was threatened with material injury by reason of imports of CTL plate from China, Russia, South Africa, and Ukraine.⁴

¹ See Initiation of Antidumping Duty Investigations: Certain Cut-To-Length Carbon Steel Plate from the People's Republic of China, Ukraine, the Russian Federation, and the Republic of South Africa, 61 FR 64051 (December 3, 1996).

² See Suspension of Antidumping Duty Investigation: Certain Cut-to-Length Carbon Steel Plate from the Russian Federation, 62 FR 61780 (November 19, 1997) (1997 Suspension Agreement).

³ See Notice of Final Determination of Sales at Less Than Fair Value: Certain Cut-to-Length Carbon Steel Plate from the Russian Federation, 62 FR 61787, 61794 (November 19, 1997) (Final Determination).

⁴ See Certain Carbon Steel Plate from China, Russia, South Africa, and Ukraine, Inv. Nos. 731-TA-753- 756 (Final), USITC Pub. 3076 (December 1997) (ITC Determination).

On June 6, 2002, based on the evidence of Russian economic reforms to that date, Commerce revoked Russia's status as a non-market economy (NME) country under section 771(18)(B) of the Act, effective on April 1, 2002.⁵ On December 20, 2002, Commerce and three Russian CTL plate producers, Severstal, JSC Magnitogorsk Iron and Steel Works, and JSC NOSTA (OKIW) Integrated Iron-Steel Works, signed a revised suspension agreement pursuant to section 734(b) of the Act. The effective date of the 2003 Agreement was January 23, 2003.⁶

⁵ See Memorandum, “Inquiry into the Status of the Russian Federation as a Non-Market Economy Country Under the U.S. Antidumping Law,” dated June 6, 2002.

⁶ See Suspension of Antidumping Duty Investigation of Certain Cut-to-Length Carbon Steel Plate from the Russian Federation, 68 FR 3859 (January 27, 2003).

On November 9, 2022, Commerce revoked Russia's market-economy status in the AD investigation into Emulsion Styrene-Butadiene Rubber from the Russian Federation.⁷ On March 30, 2023, domestic producers Nucor Corporation, Cleveland-Cliffs Inc., and SSAB Enterprises LLC (collectively, domestic parties) filed a request to terminate the 2003 Agreement.⁸ They argue that the 2003 Agreement is no longer in the public interest primarily because in November 2022 Commerce reclassified Russia as an NME country.

⁷ See Emulsion Styrene-Butadiene Rubber from the Russian Federation, 87 FR 69002 (November 17, 2022) (final and classification of the Russian Federation as an NME).

⁸ See Domestic Parties' Letter, “Request to Terminate Suspension Agreement,” dated March 30, 2023.

We asked interested parties to comment on the request in a Federal Register notice published on April 24, 2023.⁹ We received comments from the domestic parties and the GOR. We received rebuttal comments from the domestic parties. These comments are summarized and addressed in the accompanying Issues and Decision Memorandum (IDM). For the reasons addressed in the IDM, Commerce is terminating the 2003 Agreement and instituting an AD order.

⁹ See Invitation for Comment on the Agreement Suspending the Antidumping Duty Investigation of Certain Cut-to-Length Carbon Steel Plate from the Russian Federation, 88 FR 24756 (April 24, 2023).

Antidumping Duty Order

As noted above, the underlying investigation in this proceeding was continued pursuant to section 734(g) of the Act. Commerce made a final affirmative AD determination, and the ITC found material injury.¹⁰ Therefore, in light of the termination of the 2003 Agreement and the final affirmative determinations issued by Commerce and ITC, in accordance with section 735(c)(2) of the Act, Commerce is issuing an AD order and will instruct U.S. Customs and Border Protection (CBP) to suspend liquidation of entries of subject merchandise, entered, or withdrawn from warehouse, for consumption on after the date of publication of this Notice. These suspension-of-liquidation instructions will remain in effect until further notice.

¹⁰ See Final Determination, and ITC Determination, respectively.

In accordance with section 736(a)(1) of the Act, Commerce is directing CBP to assess, upon further instruction by Commerce, antidumping duties equal to the amount by which the normal value of the merchandise exceeds the export price (or constructed export price) of the merchandise, for all entries of CTL plate from Russia subject to the scope of this order in the appendix below.

Commerce also shall instruct CBP to require a cash deposit for each entry equal to the AD estimated weighted-average margin rates found in Commerce's Final Determination, as listed below. Accordingly, for entries of subject merchandise entered, or withdrawn from warehouse, for consumption on or after the date of publication of this Federal Register notice, CBP will require, at the same time as importers would normally deposit estimated duties on the subject merchandise, a cash deposit equal to the estimated weighted-average dumping margins listed below. Therefore, effective on the date of publication of this notice, CBP shall require a cash deposit equal to the cash deposit rates shown below. These suspension of liquidation and cash deposit instructions will remain in effect until further notice.

The ad valorem rates for this AD order are as follows:

Producer/exporter | Estimated weighted- average dumping margin (percent)
Joint Stock Company Severstal | 53.81
Russia-wide Rate | 185.00

The Russia-Wide Rate

A Russia-wide rate was assigned to certain CTL plate based on the average margin contained in the petition. The Russia-wide rate applies to all entries of subject merchandise except for entries from exporters/factories that are identified individually above.

Notification to Interested Parties

This notice constitutes the AD order with respect to CTL plate from Russia pursuant to section 736(a) of the Act. Interested parties can find a list of AD orders currently in effect at https://enforcement.trade.gov/stats/iastats1.html. This order is issued and published in accordance with section 736(a) of the Act and 19 CFR 351.211(b).

Dated: August 8, 2023.
Lisa W. Wang,
Assistant Secretary for Enforcement and Compliance.

Appendix

Scope of the Order

The scope of the order includes hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness.

Included as subject merchandise in the order are flat-rolled products of nonrectangular cross-section where such cross-section is achieved subsequent to the rolling process (i.e., products which have been “worked after rolling”) for example, products which have been beveled or rounded at the edges.

This merchandise is currently classified in the Harmonized Tariff Schedule of the United States (HTSUS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000.

Although the HTSUS subheadings are provided for convenience and customs purposes, the written description of the scope of the order is dispositive. Specifically excluded from subject merchandise within the scope of this order is grade X-70 steel plate.

[FR Doc. 2023-17407 Filed 8-11-23; 8:45 am]

BILLING CODE 3510-DS-P